ENVIRONMENTAL PROTECTION AGENCY

[FRL-9973-36—Region 9]

Clean Air Act Operating Permit Program; Petition for Objection to Proposed Permit for Alon USA—Bakersfield Refinery, San Joaquin Valley Unified Air Pollution Control District

AGENCY: Environmental Protection Agency (EPA).

ACTION: Notice of final Order on petition to object to air permit.

SUMMARY: This document announces that the Environmental Protection Agency (EPA) Administrator has responded to a citizen petition asking the EPA to object to the proposed issuance of an Authority to Construct/Certificate of Conformity (Permit) issued by the San Joaquin Valley Unified Air Pollution Control District (SJVUAPCD). Specifically, on December 21, 2016, the then Administrator granted Part V of the December 16, 2014 petition (Petition) and on July 28, 2017, the current Administrator denied Parts II and III of the Petition submitted by the Association of Irritated Residents, Center for Biological Diversity, and the Sierra Club to object to SJVUAPCD's proposed issuance of the Permit for the Alon USA—Bakersfield Refinery located in Kern County, California.

ADDRESSES: You may review copies of the final Orders, the Petition, and other supporting information at U.S. Environmental Protection Agency Region IX, 75 Hawthorne Street, San Francisco, CA 94105-3901.

The EPA requests that you contact the individual listed in the FOR FURTHER INFORMATION CONTACT section to view copies of the final Orders, the Petition, and other supporting information. You may view the hard copies Monday through Friday, from 9 a.m. to 3 p.m., excluding federal holidays. If you wish to examine these documents, you should make an appointment at least 24 hours before the visiting day. Additionally, the final Orders for the Alon USA—Bakersfield Refinery are available electronically at: https://www.epa.gov/sites/production/files/2017-01/documents/alon_response2014.pdf (Part V), and https://www.epa.gov/sites/production/files/2017-08/documents/alon_2nd_response2014.pdf (Parts II and III).

FOR FURTHER INFORMATION CONTACT: Laura Yannayon, EPA Region IX, (415) 972-3534, yannayon.laura@epa.gov.

SUPPLEMENTARY INFORMATION: SJVUAPCD Rule 2201 affords the EPA a 45-day period to review and object to, as appropriate, a proposed permit. Rule 2201 § 5.9.1. If the EPA does not object, Rule 2201 allows any person to petition the EPA, within 60 days, to object to the proposed permit. Petitions must be based only on objections to the permit that were raised with reasonable specificity during the public comment period, unless the petitioner demonstrates that it was impracticable to raise these issues during the comment period, or the grounds for the issue arose after this period.

The EPA received the Petition dated December 16, 2014, requesting that the EPA object to the proposed issuance of the Permit to Alon USA—Bakersfield Refining, for modifications to its petroleum products refinery and gasoline terminal, located in Kern County, California. The Petition contained five different bases for its request for an objection. Pursuant to the terms of a settlement agreement, noticed on October 21, 2016 (81 FR 72804), the EPA issued a final Order responding to the claims made in Part V of the Petition on December 21, 2016, and a second Order responding to the claims made in Parts II and III of the Petition on July 28, 2017.¹ Part V of the Petition requested that the EPA object to the Permit because it allegedly relies on invalid emission reduction credits. Parts II and III of the Petition requested that the EPA object to the Permit because the emissions baseline and the assumptions used to calculate project emissions were allegedly inaccurate.

¹ On August 8, 2017, pursuant to the settlement agreement, the Petitioners withdrew Parts I and IV of the Petition. See https://www.epa.gov/sites/production/files/2017-08/documents/alon_withdrawal2014.pdf.

On December 21, 2016, the then Administrator issued an order granting Part V of the Petition. On March 16, 2017, SJVUAPCD responded to the December 21, 2016 objection. On July 28, 2017, the current Administrator issued an order denying Parts II and III of the Petition. EPA's rationale for granting the Petition in part and denying the Petition in part are described in the Orders.

Dated: January 16, 2018.
Alexis Strauss,
Acting Regional Administrator, Region IX.

[FR Doc. 2018-02051 Filed 1-31-18; 8:45 am]

BILLING CODE 6560-50-P